DEPARTMENT OF TRANSPORTATION

Federal Aviation Administration

Second Meeting: RTCA Special Committee 230, Airborne Weather Detection Systems Committee

AGENCY: Federal Aviation Administration (FAA), U.S. Department of Transportation (DOT).

ACTION: Second Meeting Airborne Weather Detection Systems Committee.

SUMMARY: The FAA is issuing this notice to advise the public of the second meeting of the Airborne Weather Detection Systems Committee.

DATES: The meeting will be held September 9-10, 2014 from 9:00 a.m.-5:00 p.m. and September 11th, 2014 from 9:00 a.m.-3:00 a.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 224. The agenda will include the following:

September 9th

• Welcome/Introductions/Administrative Remarks

• Agenda Overview

• Meeting #1 Minutes approval

• Review of General Requirements sections

• Lunch

• Review of PWS sections

• Review of Turbulence sections

September 10th

• Review of Turbulence sections cont.

• Review of Test Procedures sections

• Lunch

• Review of Test Procedures sections cont.

• Review of Operational and Installed sections

September 11th

• DO-213 discussion

• Review of Atmospheric Threat sections

• Lunch

• Action Item Review

• Other Actions

• Date and Place of Next Meetings

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 31, 2014.
Mohannad Dawoud,
Management Analyst, NextGen, Business Operations Group, Federal Aviation Administration.

[FR Doc. 2014-18636 Filed 8-6-14; 8:45 am]

BILLING CODE 4910-13-P